DEPARTMENT OF THE INTERIOR

National Park Service

[NPS-WASO-NAGPRA-NPS0038071; PPWOCRADN0-PCU00RP14.R50000]

Notice of Intended Repatriation: School for Advanced Research, Santa Fe, NM

AGENCY: National Park Service, Interior.

ACTION: Notice.

SUMMARY: In accordance with the Native American Graves Protection and Repatriation Act (NAGPRA), the School for Advanced Research (SAR), intends to repatriate certain cultural items that meet the definition of objects of cultural patrimony and that have a cultural affiliation with the Indian Tribes or Native Hawaiian organizations in this notice.

DATES: Repatriation of the cultural items in this notice may occur on or after July 11, 2024.

ADDRESSES: Elysia Poon, School for Advanced Research, 660 Garcia Street, Santa Fe, NM 87505, telephone (505) 954-7205, email poon@sarsf.org.

SUPPLEMENTARY INFORMATION: This notice is published as part of the National Park Service's administrative responsibilities under NAGPRA. The determinations in this notice are the sole responsibility of the School for Advanced Research, and additional information on the determinations in this notice, including the results of consultation, can be found in the summary or related records. The National Park Service is not responsible for the determinations in this notice.

Abstract of Information Available

A total of 11 cultural items have been requested for repatriation. The 11 objects of cultural patrimony are bowls, jars, container, pot rings, tablita, and offering set.

1. Pueblo of Acoma, Storage Jar, 1800-1840, clay and paints. Donated by Andrew Dasburg, Santa Fe, NM, in 1931.

2. Pueblo of Acoma, Water Jar, clay and paints. Indian Arts Fund purchase from the Spanish and Indian Trading Company, Santa Fe, NM, in 1943.

3. Pueblo of Acoma, Pot Ring, corn husk and willow. Indian Arts Fund purchase from unknown source at Acoma Pueblo, NM, in 1928.

4. Pueblo of Acoma, Pot Ring, yucca and dyes. Indian Arts Fund purchase from Maria Chino at Acoma Pueblo, January 29, 1931.

5. Pueblo of Acoma, Pot Ring, yucca and dyes. Indian Arts Fund purchase from Maria Cimarron, Acoma Pueblo, NM, in 1932.

6. Pueblo of Acoma, Bowl, wood and rawhide. Donated by Kenneth M. Chapman, Santa Fe, NM, in 1934; donor purchased it from an unknown source at Acoma Pueblo, NM, in 1928.

7. Unknown (Pueblo), Container, rawhide. Bequeathed by Mary Austin, Santa Fe, NM; received by the Indian Arts Fund in 1940.

8. Pueblo of Acoma, Tablita, wood, paint, and wax crayon. Donated by the Estate of Amelia Elizabeth White. Chemically treated, 3/24/1978, likely with ORB fog, a pyrethrins product.

9. Pueblo of Acoma, Bowl, clay and paints. Bequeathed by James Richard (Rick) Dillingham II; received at SAR in 1994.

10. Pueblo of Acoma, Bowl, clay and paints. Bequeathed by James Richard (Rick) Dillingham II; received at SAR in 1994.

11. Pueblo of Acoma, Christmas Offering Set (32 pieces), clay. Bequeathed by James Richard (Rick) Dillingham II; received at SAR in 1994.

Determinations

The School for Advanced Research has determined that:

• The 11 items of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Pueblo of Acoma, New Mexico.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 11, 2024. If competing requests for repatriation are received, the School for Advanced Research must determine the most appropriate requestor prior to repatriation. Requests for joint repatriation of the cultural items are considered a single request and not competing requests. The School for Advanced Research is responsible for sending a copy of this notice to the Indian Tribes and Native Hawaiian organizations identified in this notice and to any other consulting parties.

Authority: Native American Graves Protection and Repatriation Act, 25 U.S.C. 3004 and the implementing regulations, 43 CFR 10.9.

Dated: May 31, 2024.
Melanie O'Brien,
Manager, National NAGPRA Program.

[FR Doc. 2024-12717 Filed 6-10-24; 8:45 am]

BILLING CODE 4312-52-P